DEPARTMENT OF TRANSPORTATION

Office of the Secretary

[Dockets DOT-OST-2010-0181 and DOT-OST-2010-0215]

Applications of National Air Cargo Group, Inc. D/B/A National Airlines for Certificate Authority

AGENCY: Department of Transportation, Office of the Secretary.

ACTION: Notice of Order to Show Cause (Order 2010-11-05).

SUMMARY: The Department of Transportation is directing all interested persons to show cause why it should not issue an order finding National Air Cargo Group, Inc. d/b/a National Airlines fit, willing, and able, and awarding it certificates of public convenience and necessity to engage in interstate and foreign charter air transportation of persons, property, and mail.

DATES: Persons wishing to file objections should do so no later than November 19, 2010.

ADDRESSES: Objections and answers to objections should be filed in Dockets DOT-OST-2010-0181 and DOT-OST-2010-0215 and addressed to U.S. Department of Transportation, Docket Operations, (M-30, Room W12-140), 1200 New Jersey Avenue, SE., West Building Ground Floor, Washington, DC 20590, and should be served upon the parties listed in Attachment A to the order.

FOR FURTHER INFORMATION CONTACT: Damon D. Walker, Air Carrier Fitness Division (X-56, Room W86-465), U.S. Department of Transportation, 1200 New Jersey Avenue, SE., Washington, DC 20590, (202) 366-7785.

Dated: November 5, 2010.
Susan L. Kurland,
Assistant Secretary for Aviation and International Affairs.

[FR Doc. 2010-28620 Filed 11-12-10; 8:45 am]

BILLING CODE P